DEPARTMENT OF HOMELAND SECURITY

Coast Guard

33 CFR Part 117

[CGD05-06-002]

Drawbridge Operation Regulations; Chincoteague Channel, Chincoteague, VA

AGENCY: Coast Guard, DHS.

ACTION: Notice; request for comments, and notice of public meeting.

SUMMARY: On March 31, 2006, the Coast Guard published a notice of proposed rulemaking (NPRM) in the Federal Register (71 FR 19150). That document contains a detailed history of the Coast Guard's previous regulatory efforts regarding the SR 175 Bridge. The Coast Guard is reopening the period for public comment concerning the drawbridge operation regulations that govern the SR 175 Bridge, mile 3.5, across Chincoteague Channel at Chincoteague, Virginia, because an Accomack County official communicated to the Coast Guard those residents of Chincoteague have additional comments concerning the operating regulations of the drawbridge.

DATES: Comments must be received by on or before July 21, 2006.

ADDRESSES: Comments and material received from the public as well as documents indicated in this preamble as being available in the docket, are part of docket [CGD05-06-002]. To make sure they do not enter the docket more than once, please submit them by only one of the following means:

(1) By mail to Commander (dpb), Fifth Coast Guard District, 431 Crawford Street, Portsmouth, VA 23704.

(2) By hand delivery to Commander (dpb), Fifth Coast Guard District, 431 Crawford Street, Portsmouth, VA 23704, between 8 a.m. and 4 p.m., Monday through Friday, except Federal holidays. The telephone number is (757) 398-6629.

(3) By fax to the Bridge Administration office at (757) 398-6334.

Commander, Fifth Coast Guard District (dpb) maintains the public docket for this rulemaking. Comments and material received from the public, as well as documents indicated in this preamble, will become part of this docket and will be available for inspection or copying at the address listed above between 8 a.m. and 4 p.m., Monday through Friday, except Federal holidays.

FOR FURTHER INFORMATION CONTACT: For questions on this notice, contact Gary S. Heyer, Commander (dpb) Fifth Coast Guard District, by telephone at (757) 398-6629, or by e-mail at gary.s.heyer@uscg.mil. For questions on viewing or submitting material to the docket, also contact Mr. Gary S. Heyer.

Request for Comments

We encourage you to participate in this rulemaking by submitting your comments to Commander (dpb), Fifth Coast Guard District as specified in ADDRESSES. We will consider comments received during this additional comment period and may change the rule in response to the comments.

Public Meeting and Procedure

The Coast Guard will also hold a public meeting to provide a forum for citizens to provide oral comments relating to the drawbridge operation regulations for the SR 175 Bridge, mile 3.5, across Chincoteague Channel at Chincoteague, Virginia. The meeting will be open to the public and it will be held from 7:30 p.m. to 9:30 p.m. on July 18, 2006, at the Chincoteague Community Center, 6155 Community Drive, Chincoteague, VA 23336. The meeting may close early if all business is finished. Written material and advance notice requests to make oral comments should reach the Coast Guard on or before July 17, 2006.

Members of the public are invited to make comments and those who wish to provide oral comment will be recognized by the meeting moderator. Each person will be limited to no more than 5 minutes of oral comments. The moderator will first call off names of individuals who have notified the meeting moderator in advance that they are planning to comment. After that, individuals who arrived prior to the start of the meeting on July 18, 2006, and received numbers in the lobby will be called. After all of these individuals have been called, the moderator will then ask for members of the audience who have not provided advance notification or who did not arrive prior to the meeting to come forward, sign-in with the recorder, and then be able to approach the podium to deliver comments.

Send written material and requests to make oral comments to Commander (dpb), Fifth Coast Guard District, Federal Building, 1st Floor, 431 Crawford Street, Portsmouth, VA 23704-5004 or via fax at (757) 398-6334 or by e-mail at gary.s.heyer@uscg.mil.

The agenda of the public meeting will include the following:

(1) Introduction of panel members.

(2) Overview of meeting format.

(3) Background on the proposed rulemaking.

(4) Statements from citizens. Statements may be delivered in written form at the public meeting and made part of the docket or delivered orally not to exceed 5 minutes.

Questions

We need assistance from the public in ensuring the Coast Guard fully understands the impact of potential rulemaking on all users of the bridge, both road and waterway usage. We believe that the impacts can be better understood by articulating answers to questions such as those posed below. In responding to the questions listed below, please explain your reasons for each answer as specifically as possible so that we can weigh the impacts and consequences of future actions that we may take. The following are the types of pertinent questions that may be used:

(1) If the SR 175 Bridge opened every two hours, would this have a positive or a negative impact on your business interests? And, what would be the approximate monetary value of this impact per day?

(2) If the SR 175 Bridge opened every two hours, would this increase or decrease the time you spend per day as a motor vehicle commuter? And, approximately how much would your commuting time increase or decrease?

(3) If the SR 175 Bridge opened every two hours and this opening schedule had a negative impact on your business interests, what actions could you take, if any, to minimize the negative impact?

(4) If the SR 175 Bridge continued to open once per hour, would this have a negative or positive financial impact on your life or business? And, what would be the approximate amount of the negative or positive financial impact per day?

(5) Is there a traffic management plan in place that directs how to manage a vehicle back-up at the SR 175 Bridge? And if there is a plan, what procedures are in place to increase public safety and reduce traffic delays at the Bridge? Any additional information provided on these topics is welcome.

Information on Services for Individuals With Disabilities

For information on facilities or services for individuals with disabilities or to request special assistance at the meeting, contact Mr. Gary S. Heyer as listed in FOR FURTHER INFORMATION CONTACT as soon as possible.

Dated: June 13, 2006.
Larry L. Hereth,
Rear Admiral, U. S. Coast Guard, Commander, Fifth Coast Guard District.

[FR Doc. E6-10048 Filed 6-23-06; 8:45 am]

BILLING CODE 4910-15-P